DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and the U.S. Army Corps of Engineers.

SUMMARY: The FHWA, on behalf of Caltrans, is issuing this notice to announce actions taken by Caltrans that are final within the meaning of 23 U.S.C. 139(l)(1). The actions relate to a proposed highway project, State Route 91 from the cities of Anaheim and Yorba Linda to the City of Riverside, in the counties of Orange and Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 4, 2013. If the Federal law that authorizes judicial review of a claim provides a time period of less than 150 days for filing such claim, then that shorter time period still applies.

FOR FURTHER INFORMATION CONTACT: Aaron Burton, Branch Chief, California Department of Transportation District 8, Division of Environmental Planning, 464 West 4th Street, 6th Floor, MS 829, San Bernardino, California 92401-1400, during normal business hours from 9:00 a.m. to 5:00 p.m., telephone (909) 383-2841, email aaron_burton@dot.ca.gov.

SUPPLEMENTARY INFORMATION: Effective July 1, 2007, the Federal Highway Administration (FHWA) assigned, and the California Department of Transportation (Caltrans) assumed environmental responsibilities for this project pursuant to 23 U.S.C. 327. Notice is hereby given that Caltrans has taken final agency actions subject to 23 U.S.C. 139(l)(1) by issuing licenses, permits, and approvals for the following highway project in the State of California: The State Route 91 (SR-91) Corridor Improvement Project includes one general purpose lane would be constructed in each direction on SR-91, from the SR-91/Route 241 (SR-241) interchange in the Cities of Anaheim and Yorba Linda to Pierce Street in the City of Riverside. The existing express lanes in Orange County will be extended east from the Orange/County line to Interstate 15 (I-15) in the City of Corona. The existing HOV lanes would be converted to tolled express lanes, and one additional tolled express lane would be added in each direction on SR-91. Direct tolled express lane connectors would be constructed on southbound and northbound I-15 near the Ontario Avenue interchange through the SR-91/I-15 interchange to connect to the eastbound and westbound SR-91 tolled express lanes. Auxiliary lanes would be added at various locations.

The project is intended to improve the vehicle, person, and goods movement within the SR-91 corridor to more effectively serve existing and future travel demand between and within Riverside and Orange Counties; and to provide improvements along the SR-91 and I-15 transportation corridors as well as to related local roads, and to reduce diversion of regional traffic from the freeways into the surrounding communities.

The actions by the Federal agencies, and the laws under which such actions were taken, are described in the Final Environmental Impact Statement (FEIS) for the project, approved on August 10, 2012, in the FHWA Record of Decision (ROD) issued on October 23, 2012, and in other documents in the FHWA project records. The Final FEIS, ROD, and other project records are available by contacting Caltrans at the address provided above. The Caltrans FEIS and ROD can be viewed and downloaded from the project Web site at http://www.sr91project.info/index.php., or viewed at public libraries in the project area.

The U.S. Army Corps of Engineers decision and Section 404 Nationwide Permit are available by contacting California Department of Transportation District 8 at the address provided above.

This notice applies to all Federal agency decisions as of the issuance date of this notice and all laws under which such actions were taken, including but not limited to:

1. General: National Environmental Policy Act (NEPA) (42 U.S.C. 4321-4351).

2. Clean Air Act (42 U.S.C. 7401-7671(q)).

3. Migratory Bird Treaty Act (16 U.S.C. 703-712).

4. Historic and Cultural Resources: Section 106 of the National Historic Preservation Act of 1966, as amended (16 U.S.C. 470(f) et seq.).

5. Clean Water Act (Section 401) (33 U.S.C. 1251-1377).

6. Federal Endangered Species Act of 1973 (16 U.S.C. 1531-1543).

7. Executive Order 11990—Protection of Wetlands.

8. Executive Order 11988—Floodplain Management.

9. Executive Order 12898—Environmental Justice.

10. Department of Transportation Act of 1966, Section 4(f) (49 U.S.C. 303).

11. Executive Order 13112—Invasive Species.

(Catalog of Federal Domestic Assistance Program Number 20.205, Highway Planning and Construction. The regulations implementing Executive Order 12372 regarding intergovernmental consultation on Federal programs and activities apply to this program.)

Authority: 23 U.S.C. 139(l)(1).

Issued on: October 23, 2012.
Basem Muallem,
District Director, District 8, California Department of Transportation.

[FR Doc. 2012-26937 Filed 11-2-12; 8:45 am]

BILLING CODE 4910-22-P